DEPARTMENT OF ENERGY

Federal Energy Regulatory Commission

[Docket No. AD20-14-000]

Carbon Pricing in Organized Wholesale Electricity Markets; Supplemental Notice of Technical Conference

As announced in the Notice of Technical Conference issued in this proceeding on June 17, 2020, the Federal Energy Regulatory Commission (Commission) will convene a Commissioner-led technical conference in the above-referenced proceeding on Wednesday, September 30, 2020, from approximately 9:00 a.m. to 5:00 p.m. Eastern time. The conference will be held either in-person—at the Commission's headquarters at 888 First Street NE, Washington, DC 20426 in the Commission Meeting Room (with a webcast option available)—or electronically.

The purpose of this conference is to discuss considerations related to state-adoption of mechanisms to price carbon dioxide emissions, commonly referred to as carbon pricing, in regions with Commission-jurisdictional organized wholesale electricity markets (i.e., regions with regional transmission organizations/independent system operators, or RTOs/ISOs). This conference will address carbon pricing approaches where a state (or group of states) sets an explicit carbon price, whether through a price-based or quantity-based approach, and how that carbon price intersects with RTO/ISO-administered markets, addressing both legal and technical issues.

A high-level agenda for this conference is attached. The Commission will issue a further supplemental notice with a full agenda that includes questions for each panel and the list of panelists, and further details regarding whether this conference will be held in-person or electronically. There is no fee for attendance, and the conference will be webcast as an option for the public to attend electronically. Information on this technical conference, including a link to the webcast, will also be posted on this conference's event page on the Commission's website, www.ferc.gov/news-events/events/technical-conference-regarding-carbon-pricing-organized-wholesale-electricity, prior to the event. The conference will be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations. This notice is issued and published in accordance with 18 CFR 2.1 (2019).

For more information about this technical conference, please contact:

John Miller (Technical Information), Office of Energy Market Regulation, (202) 502-6016, john.miller@ferc.gov

Anne Marie Hirschberger (Legal Information), Office of the General Counsel, (202) 502-8387, annemarie.hirschberger@ferc.gov

Sarah McKinley (Logistical Information), Office of External Affairs, (202) 502-8004, sarah.mckinley@ferc.gov

Dated: August 5, 2020.
Kimberly D. Bose,
Secretary.

[FR Doc. 2020-17505 Filed 8-10-20; 8:45 am]

BILLING CODE 6717-01-P